DEPARTMENT OF THE INTERIOR

National Park Service

[NPS-WASO-NAGPRA-NPS0030131; PPWOCRADN0-PCU00RP14.R50000]

Notice of Inventory Completion: Department of Anthropology, Southern Methodist University, Dallas, TX

AGENCY: National Park Service, Interior.

ACTION: Notice.

SUMMARY: The Department of Anthropology, Southern Methodist University has completed an inventory of human remains and associated funerary objects in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Department of Anthropology, Southern Methodist University. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Department of Anthropology, Southern Methodist University at the address in this notice by June 15, 2020.

ADDRESSES: B. Sunday Eiselt, Department of Anthropology, Southern Methodist University, 3225 Daniel Avenue, Heroy Hall #450, Dallas, TX 75205, telephone (2114) 768-2915, email seiselt@smu.edu.

SUPPLEMENTARY INFORMATION: Notice is here given in accordance with the Native American Graves Protection and Repatriation Act (NAGPRA), 25 U.S.C. 3003, of the completion of an inventory of human remains and associated funerary objects under the control of the Department of Anthropology, Southern Methodist University, Dallas, TX. The human remains and associated funerary objects were removed from Freestone County and Navarro County, TX.

This notice is published as part of the National Park Service's administrative responsibilities under NAGPRA, 25 U.S.C. 3003(d)(3). The determinations in this notice are the sole responsibility of the museum, institution, or Federal agency that has control of the Native American human remains associated funerary objects. The National Park Service is not responsible for the determinations in this notice.

Consultation

A detailed assessment of the human remains was made by the Department of Anthropology, Southern Methodist University professional staff in consultation with representatives of the Caddo Nation of Oklahoma and the Wichita and Affiliated Tribes (Wichita, Keechi, Waco & Tawakonie), Oklahoma.

History and Description of the Remains

The Richland Creek Archaeological Project (RCAP) was conducted by Southern Methodist University (SMU) at the request of the Tarrant County Water Control and Improvement District Number One in an attempt to prepare a cultural resources management plan prior to construction of the Richland/Chambers Reservoir, and to explore the archeology of this region of TX.

Between 1980 and 1981, human remains representing, at minimum, four individuals were removed from site 41FT161B in Freestone County, TX, during the RCAP. Burial 1 is an adult individual of unknown sex, although possibly female based on the gracile nature of the human remains. Burial 2 is a 50-60 year old female, who was buried semi-flexed on the right side, with the head to the north. Burial 3 is an adult individual of unknown sex, although possibly female. (That Burial 3 is actually a portion of Burial 1 due to its location downslope of Burial 1, as indicated by the field notes, cannot be confirmed.) Burial 4 is an adult individual of unknown sex, although possibly female, who was buried semi-flexed on the left side, with the hands clasped and placed beneath the head, oriented in an east-west direction. No known individuals were identified. The three associated funerary objects are one Gary point, one chert blade, and one Steiner point.

Archeologists William A. Martin and Daniel E. McGregor dated the major occupation of the site to A.D. 600-900 based on radiocarbon, lithic, and ceramic evidence. The Gary dart and arrow points, as well as the coarse-grained sandy paste sherds, suggest Late Prehistoric (A.D. 700-1650) occupation.

Between 1980 and 1981, human remains representing, at minimum, five individuals were recovered from site 41NV179 in Navarro County, TX, during the RCAP. Burial A is an individual of unknown age and sex, due to the fragmentary nature of the remains. Burial B is an individual of unknown age and sex, who was buried flexed on the back with the arms crossed in front of the chest at the forearms. Burial C is an individual of unknown age and sex, who was buried on the back with the feet flexed beneath the body, the knees tucked in to the chest and the arms extended. Burial D is an individual of unknown age and sex. Burial E is an individual of unknown age and sex who does not appear in any of the official reports or field documentation. No known individuals were identified. No associated funerary objects are present. Major occupation of the site is dated to A.D. 600-900 based on lithic and ceramic evidence.

Between 1980 and 1984, human remains representing, at minimum, one individual were removed from the Hardy site (41FT200) in Freestone County, TX, during the RCAP. Burial 1 is an adult male less than 30 years old, whose fragmentary remains were recovered from the slough trench of the site. No known individuals were identified. No associated funerary objects are present.

Archeologist Daniel E. McGregor dated the major occupation of the site to the Middle Archaic to Late Prehistoric periods, based on ceramic evidence together with expanding and contracting stem projectile points.

Between 1980 and 1981, human remains representing, at minimum, one individual were removed from the Oxbow site (41NV243) in Navarro County, TX, during the RCAP. Burial 1 is a 35-45 year old male, who was buried semi-flexed on the right side, with the head to the southeast and facing downslope. No known individuals were identified. The 21 associated funerary objects are two lots of chips, two lots of broken flakes, four lots of shell, one lot of baked clay, three bifaces, two projectile points, three lots of whole flakes, two lots of unifaces, and two ground stones.

Between 1980 and 1984, human remains representing, at minimum, seven individuals were removed from the Irvine site (41NV182) in Navarro County, TX, during the RCAP. Burial 1 is a 25-35 year old individual of indeterminate sex. Burial 2 contains three individuals: One is a 35-45 year old male, a second is an adult individual of indeterminate sex who is represented only by a single tibia fragment, and the third is a child of indeterminate sex who is represented only by the cranium. Burial 3 is a 6-10 year old individual of unknown sex, although possibly female. Burial 9 is a 25-35 year old female, who was buried flexed and on the right side, with the head to the north. The seventh individual is of unknown age and sex. Lack of accompanying provenience information precludes a determination as to whether the remains of this individual are portions of an existing or missing burial from the site, or belong to a separate individual altogether. No known individuals were identified. The 43 associated funerary objects are four Gary dart points, one Dawson dart point, one Yarbrough dart point, one untyped straight stem point, one dart point tip fragment, one dart point base fragment, one sherd, one uniface, three bifaces, five biface fragments, five lot of baked clay, five lots of flakes, two lot of cobbles, two spalls, one mano, one core fragment, one lot of shatter, two lots of shell, one lot of fire cracked rock, two lots of unsorted material, one lot of mixed faunal remains, and one faunal bone (perhaps belonging to a bird).

Archeologists Daniel E. McGregor and Jeffery Bohlin dated the major occupation of the site to A.D. 700-900, based on the lithic evidence (contracting stem Gary dart and arrow points), ceramic materials (coarse-grained, sandy paste sherds), and the presence of large roasting and trash pits. There were two additional minor occupations of the site during the Late Archaic (as evidenced by expanding and straight stem dart points) and the Late Prehistoric (as shown by radiocarbon dated materials from A.D. 1140 ± 50).

Between 1980 and 1984, human remains representing, at minimum, nine individuals were removed from the Adams Ranch site (41NV177) in Navarro County, TX, during the RCAP. Burial 1 is a 35-45+ year old female dating to the A.D. 200-700 component of the site. Burial 2 is a 6-8 year old child of unknown sex dating to the A.D. 800-1000 component of the site. Burial 3 is an adult individual of unknown sex (represented only by the left temporal bone) dating to the A.D. 200-700 component of the site. Burial 4 is a 7-9 year old child represented by cranial and long bone fragments. Burial 5 is an adult male. Burial 6 is a 30-40 year old male dating to the A.D. 200-700 component of the site. Burial 7 is an 18-24 month old child dating to the A.D. 200-700 component of the site. Burial 8 is an adult individual of unknown sex, who was found alongside Burial 2, and is represented only by a right parietal fragment. The ninth individual is represented by unidentified, miscellaneous skeletal remains provenienced to Trench 17 of the site. No known individuals were identified. The six associated funerary objects are one bag of shell fragments, one Gary point, one small arrow point (possibly Bonham type), one ceramic sherd, and two shells.

Archeologist William A. Martin identified three major occupations of Adams Ranch, and believed it to have functioned as a hunting/collecting camp. The three periods of occupation were the Late Archaic (A.D. 200-700), Early Round Prairie Phase (A.D. 800-1000), and the St. Elmo Phase (post A.D. 1000). One feature of interest at the site was a large central pit believed to be a Wylie Focus pit used for roasting, trash disposal, and burial.

Between 1980 and 1984, human remains representing, at minimum, 22 individuals were removed from the Bird Point Island site (41FT201) in Freestone County, TX, during the RCAP. These individuals were recovered from formal burials and as fragments or cremations within non-burial contexts. Burial 1 is an adult individual of unknown sex dating to the A.D. 1000-1200 occupation of the site. Burial 2 is an adult male dating to the A.D. 580-860 occupation of the site. Burial 3 is an adult male dating to the 170 B.C. to A.D. 130 occupation of the site. Burial 8 is a 25-30 year old male dating to the A.D. 1300-1650 occupation of the site, who was buried extended and prone, with the left arm positioned under the chest, clasping the right wrist, and the head oriented in an east-west direction. Burial 9/11 is a 25-30 year old male, whose skeleton is complete and well-preserved except for the hand, foot, and upper facial bones. Burial 10 is an adult female found alongside Burial 9/11, who is represented by fragmentary remains of a right radius, lower ribs, and calcaneus. Burial 12 is a post-adolescent individual of unknown sex represented by occipital, parietal, and long bone fragments. Burial 13 is an adult female, who was buried tightly flexed and with the head to the west. Burial 14 is an infant of unknown sex, who is represented by craniofacial and upper thoracic remains. Burial 15 is an adult female represented by cranial and lower axial skeletal remains, who was buried semi-flexed on the right side and with the face to the north. Burial 16 is an adult female dating to the A.D. 1300-1650 occupation of the site, who was buried semi-flexed on the right side, with the forearms brought forward toward the face. Feature 91 contained a possible cremation dating to the A.D. 1000-1200 occupation of the site, represented by burned bone fragments recovered from flotation. Features 65, 77, 90, 92, 93, 107, and 110 also contained burned bone fragments believed to represent cremations due to the fact that these feature numbers are absent from the feature inventory, and the official report states that any features later determined to be cremations were re-designated as burials and removed from the inventory. Finally human remains belonging to three individuals (41FT201.403.14, 41FT201.401.9.1, and 41FT201.403.10.8) are represented by bone fragments. The provenience information for these human remains is insufficient to conclusively determine whether they are portions of existing or missing burials in the collection, or separate individuals entirely. No known individuals were identified. The 10 associated funerary objects are two lots of assorted faunal remains; two lots of assorted shell, bone, and rock; three shells; one lot of wood; one lot of lithic debris; and one lot of shell, charcoal, and flakes.

The Bird Point Island Site was occupied substantially over four periods of time: 170 B.C. to A.D. 130, A.D. 580-860, A.D. 1000-1200, and A.D. 1300-1650. Bird Point Island contained a large central pit similar to the one at Adams Ranch, and was believed to be a Wylie Focus pit. Analysis of the cultural features, structures, and artifacts of the site suggests cultural relationships between the inhabitants of the site and the Caddo.

All seven of these Richland Creek sites fall within historic Caddo territory, and finds from Wylie Focus sites (i.e. Bird Point Island and Adams Ranch) show influence of Caddo culture.

Determinations Made by the Department of Anthropology, Southern Methodist University

Officials of the Department of Anthropology, Southern Methodist University have determined that:

• Pursuant to 25 U.S.C. 3001(9), the human remains described in this notice represent the physical remains of 49 individuals of Native American ancestry.

• Pursuant to 25 U.S.C. 3001(3)(A), the 83 objects described in this notice are reasonably believed to have been placed with or near individual human remains at the time of death or later as part of the death rite or ceremony.

• Pursuant to 25 U.S.C. 3001(2), there is a relationship of shared group identity that can be reasonably traced between the Native American human remains and associated funerary objects and the Caddo Nation of Oklahoma and the Wichita and Affiliated Tribes (Wichita, Keechi, Waco, & Tawakonie) hereafter referred to as The Tribes.

Additional Requestors and Disposition

Lineal descendants or representatives of any Indian Tribe or Native Hawaiian organization not identified in this notice that wish to request transfer of control of these human remains and associated funerary objects should submit a written request with information in support of the request to B. Sunday Eiselt, Department of Anthropology, Southern Methodist University, 3225 Daniel Avenue, Heroy Hall #450, Dallas, TX 75205, telephone (214) 768-2915, email seiselt@smu.edu, by June 15, 2020. After that date, if no additional requestors have come forward, transfer of control of the human remains and associated funerary objects to The Tribes may proceed.

The Department of Anthropology, Southern Methodist University is responsible for The Tribes that this notice has been published.

Dated: April 3, 2020.
Melanie O'Brien,
Manager, National NAGPRA Program.

[FR Doc. 2020-10345 Filed 5-13-20; 8:45 am]

BILLING CODE 4312-52-P